DEPARTMENT OF TRANSPORTATION

Federal Highway Administration

Notice of Final Federal Agency Actions on Proposed Highway in California

AGENCY: Federal Highway Administration (FHWA), DOT.

ACTION: Notice of limitation on claims for judicial review of actions by the California Department of Transportation (Caltrans), pursuant to 23 USC 327, and

SUMMARY: The FHWA, on behalf of Caltrans, is issuing this notice to announce actions taken by Caltrans, that are final within the meaning of 23 U.S.C. 139(l)(1). The actions relate to the Bayview Transportation Improvements Project (Federal-aid project number HP21L-5934(115)) affecting various streets within Bayview and Hunters Point in the City and County of San Francisco, State of California. Those actions grant approval for the project.

DATES: By this notice, the FHWA, on behalf of Caltrans, is advising the public of final agency actions subject to 23 U.S.C. 139(l)(1). A claim seeking judicial review of the Federal agency actions on the highway project will be barred unless the claim is filed on or before April 13, 2015. If the Federal law that authorizes judicial review of a claim provides a time period of less than 150 days for filing such claim, then that shorter time period still applies.

FOR FURTHER INFORMATION CONTACT: Boris Deunert, Senior Environmental Planner, Caltrans District 4 Office of Local Assistance, 12th Floor, 111 Grand Avenue, Oakland, CA 94623, (Tel: 510 286 6371, Email: boris.deunert@dot.ca.gov) Office Hours: 7:00 a.m. to 4:30 p.m. Mon. to Fri., Pacific Standard Time

SUPPLEMENTARY INFORMATION: Effective July 1, 2007, the Federal Highway Administration (FHWA) assigned, and the California Department of Transportation (Caltrans) assumed, environmental responsibilities for this project pursuant to 23 U.S.C. 327. Notice is hereby given that Caltrans has taken final agency actions subject to 23 U.S.C. 139(l)(1) by issuing a Finding of No Significant Impact (FONSI) for the following highway project in the State of California: The Bayview Transportation Improvements project is a federally funded project sponsored by the Public Works Department of the City and County of San Francisco. The project aims to improve traffic operations, accommodate approved and planned growth, and develop a more direct access route from U.S. Highway 101 and Interstate 280 to the Candlestick Point and Hunters Point Shipyard areas of San Francisco. Within the project area, the proposals include new and improved roadways, transit improvements (including infrastructure for a Bus Rapid Transit and a new Transit Center), and bicycle and pedestrian improvements. The Caltrans Federal-aid project number is HP21L-5934 (115). The actions by the Federal agencies, and the laws under which such actions were taken, are described in the Final Environmental Assessment (FEA) for the project, approved on 29 August 2014, and in the Finding of No Significant Impact (FONSI) issued on 29 August 2014, and in other documents in the Caltrans project records. The FEA, FONSI, and other project records are available by contacting Caltrans at the address provided above. The FEA and FONSI can be viewed and downloaded from the project Web site at http://sfdpw.org/index.aspx?page=59 , or viewed at public libraries in the project area. This notice applies to all Federal agency decisions as of the issuance date of this notice and all laws under which such actions were taken, including, but not limited to:

1. National Environmental Policy Act (NEPA) [42.U.S.C. 4321-4351]; Federal-Aid Highway Act [23 U.S.C. 109 and 23 U.S.C. 128]

2. Section 4(f) of the Department of Transportation Act of 1966 [49 U.S.C. 303]

3. National Historic Preservation Act of 1966, as amended [16 U.S.C. 470 (f) et sq.)

4. Section 7 of the Endangered Species Act of 1973 (ESA) [16 U.S.C 1531-1544 and Section 1536]

5. Clean Air Act [42 U.S.C. 7401-7671 (q)]

6. Floodplain Management, Executive Order 11988

7. Federal Actions to Address Environmental Justice in Minority Populations and Low Income Populations, Executive Order 12898

(Catalog of Federal Domestic Assistance Program Number 20.205, Highway Planning and Construction. The regulations implementing Executive Order 12372 regarding intergovernmental consultation on Federal programs and activities apply to this program.)

Authority: 23 U.S.C. 139(l)(1).

Issued on: October 22, 2014.
Gary Sweeten,
North Team Leader, Project Delivery Team, Federal Highway Administration, Sacramento, California.

[FR Doc. 2014-26838 Filed 11-12-14; 8:45 am]

BILLING CODE 4910-RY-P